DEPARTMENT OF TRANSPORTATION

National Highway Traffic Safety Administration

Petition for Exemption From the Vehicle Theft Prevention Standard; Mitsubishi Motors

AGENCY: National Highway Traffic Safety Administration (NHTSA), Department of Transportation (DOT).

ACTION: Grant of petition for exemption.

SUMMARY: This document grants in full the Mitsubishi Motors R&D of America, Inc.'s (Mitsubishi) petition for exemption of the Mitsubishi [Confidential] vehicle line in accordance with Exemption from the Theft Prevention Standard. This petition is granted because the agency has determined that the antitheft device to be placed on the line as standard equipment is likely to be as effective in reducing and deterring motor vehicle theft as compliance with the parts-marking requirements of the Federal Motor Vehicle Theft Prevention Standard. Mitsubishi also requested confidential treatment for specific information in its petition. While official notification on granting or denying Mitsubishi's request for confidential treatment will be addressed by separate letter, no confidential information provided for purposes of this document has been disclosed.

DATES: The exemption granted by this notice is effective beginning with the 2018 model year.

FOR FURTHER INFORMATION CONTACT: Hisham Mohamed, Office of International Policy, Fuel Economy and Consumer Programs, NHTSA, West Building, W43-437, 1200 New Jersey Avenue SE., Washington, DC 20590. Mr. Mohamed's phone number is (202) 366-0307. His fax number is (202) 493-2990.

SUPPLEMENTARY INFORMATION: In a petition dated March 30, 2017, Mitsubishi requested exemption from the parts-marking requirements of the Theft Prevention Standard (49 CFR part 541) for the Mitsubishi [Confidential] vehicle line, beginning with MY 2018. The petition requested an exemption from parts-marking pursuant to 49 CFR 543, Exemption from Vehicle Theft Prevention Standard, based on the installation of an antitheft device as standard equipment for the entire vehicle line.

Under § 543.5(a), a manufacturer may petition NHTSA to grant an exemption for one vehicle line per model year. In its petition, Mitsubishi provided a detailed description and diagram of the identity, design, and location of the components of the antitheft device for the [Confidential] vehicle line. Mitsubishi will install a passive, transponder-based, electronic engine immobilizer device as standard equipment on its [Confidential] vehicle line beginning with MY 2018. Key components of the antitheft device will include a transponder key, electronic control unit (ECU), and a passive immobilizer. Mitsubishi also stated that it will be incorporating an audible and visual alarm system as standard equipment on these trim-line vehicles. Mitsubishi's submission is considered a complete petition as required by 49 CFR 543.7, in that it meets the general requirements contained in 543.5 and the specific content requirements of 543.6.

Mitsubishi stated that its entry models for the [Confidential] vehicle line will be equipped with a Wireless Control Module (WCM) immobilizer. Mitsubishi explained that this is a key entry system in which the transponder is located in a traditional key that must be inserted into the key cylinder in order to activate the ignition. All other models of the [Confidential] vehicle line are equipped with a One-touch Starting System (OSS), which utilizes a keyless system that allows the driver to press a button located on the instrument panel to activate and deactivate the ignition (instead of using a traditional key in the key cylinder) as long as the transponder is located in close proximity to the driver.

Once the ignition switch is turned (pushed) to the ignition-on position, the transceiver module reads the specific ignition key code for the vehicle and transmits an encrypted message containing the key code to the electronic control unit (ECU). The immobilizer receives the key code signal transmitted from either type of key (WCM or OSS) and verifies that the key code signal is correct. The immobilizer then sends a separate encrypted start-code signal to the engine ECU to allow the driver to start the vehicle. The engine only will function if the key code matches the unique identification key code previously programmed into the ECU. If the codes do not match, the engine and fuel system will be disabled.

In addressing the specific content requirements of 543.6, Mitsubishi provided information on the reliability and durability of its proposed device. To ensure reliability and durability of the device, Mitsubishi conducted tests based on its own specified standards. Mitsubishi provided a detailed list of the tests conducted and believes that the device is reliable and durable since the device complied with its specific requirements for each test. Mitsubishi additionally stated that its immobilizer system is further enhanced by several factors making it very difficult to defeat. Specifically, Mitsubishi stated that communication between the transponder and the ECU are encrypted and its WCM and OSS have over 4.3 billion different possible key codes that make successful key code duplication virtually impossible. Mitsubishi also stated that its immobilizer system and the ECU share security data during vehicle assembly that make them a matched set. These matched modules will not function if taken out and reinstalled separately on other vehicles. Mitsubishi also stated that it is impossible to mechanically override the system and start the vehicle because the vehicle will not be able to start without the transmission of the specific code to the electronic control module. Lastly, Mitsubishi stated that the antitheft device is extremely reliable and durable because there are no moving parts, nor does the key require a separate battery.

Mitsubishi also informed the agency that its Eclipse vehicle line has been equipped with the antitheft device beginning with its MY 2000 vehicles. Mitsubishi stated that the theft rate for the MY 2000 Eclipse decreased by almost 42% when compared with that of its MY 1999 Mitsubishi Eclipse (unequipped with an immobilizer device). Mitsubishi also revealed that the Galant, Endeavor, Outlander, Lancer, Outlander Sport, i-MiEV and Mirage vehicle lines have been equipped with a similar type of immobilizer device since January 2004, April 2004, September 2006, March 2007, September 2010, October 2011 and July 2013, respectively. All eight vehicle lines have been granted parts-marking exemptions by the agency. The average theft rates for the Mitsubishi Galant, Endeavor, Outlander and Lancer vehicle lines using an average of 3 MY's data are 3.6664, 1.7721, 0.7253 and 0.9747 respectively. Therefore, Mitsubishi has concluded that the antitheft device proposed for its vehicle line is no less effective than those devices in the lines for which NHTSA has already granted full exemption from the parts-marking requirements.

Based on the supporting evidence submitted by Mitsubishi on the device, the agency believes that the antitheft device for the [Confidential] vehicle line is likely to be as effective in reducing and deterring motor vehicle theft as compliance with the parts-marking requirements of the Theft Prevention Standard (49 CFR part 541). The agency concludes that the device will provide the five types of performance listed in § 543.6(a)(3): Promoting activation; attract attention to the efforts of an unauthorized person to enter or move a vehicle by means other than a key; preventing defeat or circumvention of the device by unauthorized persons; preventing operation of the vehicle by unauthorized entrants; and ensuring the reliability and durability of the device.

Pursuant to 49 U.S.C. 33106 and 49 CFR 543.7(b), the agency grants a petition for an exemption from the parts-marking requirements of part 541 either in whole or in part, if it determines that, based upon substantial evidence, the standard equipment antitheft device is likely to be as effective in reducing and deterring motor vehicle theft as compliance with the parts-marking requirements of part 541. The agency finds that Mitsubishi has provided adequate reasons for its belief that the antitheft device for the Mitsubishi [Confidential] vehicle line is likely to be as effective in reducing and deterring motor vehicle theft as compliance with the parts-marking requirements of the Theft Prevention Standard (49 CFR part 541). This conclusion is based on the information Mitsubishi provided about its device.

For the foregoing reasons, the agency hereby grants in full Mitsubishi's petition for exemption for the [Confidential] vehicle line from the parts-marking requirements of 49 CFR part 541, beginning with its MY 2018 model year vehicles. The agency notes that 49 CFR part 541, Appendix A-1, identifies those lines that are exempted from the Theft Prevention Standard for a given model year. 49 CFR part 543.7(f) contains publication requirements incident to the disposition of all part 543 petitions. Advanced listing, including the release of future product nameplates, the beginning model year for which the petition is granted and a general description of the antitheft device is necessary in order to notify law enforcement agencies of new vehicle lines exempted from the parts-marking requirements of the Theft Prevention Standard. Mitsubishi stated that an official nameplate for the vehicle has not yet been determined. However, as a condition to the formal granting of Mitsubishi's petition for exemption from the parts-marking requirements of 49 CFR part 541 for the MY 2018 [Confidential] vehicle line, the agency fully expects Mitsubishi to notify the agency of the nameplate for the vehicle line prior to its introduction into the United States commerce for sale.

If Mitsubishi decides not to use the exemption for this line, it must formally notify the agency. If such a decision is made, the line must be fully marked as required by 49 CFR parts 541.5 and 541.6 (marking of major component parts and replacement parts).

NHTSA notes that if Mitsubishi wishes in the future to modify the device on which this exemption is based, the company may have to submit a petition to modify the exemption. Part 543.7(d) states that a part 543 exemption applies only to vehicles that belong to a line exempted under this part and equipped with the antitheft device on which the line's exemption is based. Further, § 543.9(c)(2) provides for the submission of petitions “to modify an exemption to permit the use of an antitheft device similar to but differing from the one specified in that exemption.”

The agency wishes to minimize the administrative burden that part 543.9(c)(2) could place on exempted vehicle manufacturers and itself. The agency did not intend part 543 to require the submission of a modification petition for every change to the components or design of an antitheft device. The significance of many such changes could be de minimis. Therefore, NHTSA suggests that if the manufacturer contemplates making any changes, the effects of which might be characterized as de minimis, it should consult the agency before preparing and submitting a petition to modify.

Issued in Washington, DC, under authority delegated in 49 CFR part 1.95.
Raymond R. Posten,
Associate Administrator for Rulemaking.

[FR Doc. 2017-12880 Filed 6-20-17; 8:45 am]

BILLING CODE 4910-59-P